NUCLEAR REGULATORY COMMISSION

Licensing Support Network Advisory Review Panel

AGENCY: Nuclear Regulatory Commission.

ACTION: Notice of renewal of the Charter of the Licensing Support Network Advisory Review Panel.

The Licensing Support System Advisory Review Panel was established by the U.S. Nuclear Regulatory Commission (NRC) as a Federal Advisory Committee in 1989. Its purpose was to provide advice on the fundamental issues of design and development of an electronic information management system to be used to store and retrieve documents relating to the licensing of a geologic repository for the disposal of high-level radioactive waste, and on the operation and maintenance of the system. This electronic information management system was known as the Licensing Support System (LSS). In November, 1998 the Commission approved amendments to title 10 Code of Federal Regulations Part 2 that renamed the Licensing Support System Advisory Review Panel as the Licensing Support Network Advisory Review Panel (LSNARP). The Licensing Support Network (LSN) was shut down in 2011 and the document collection was submitted to the Office of the Secretary. The document collection was made publically available in the NRC's Agencywide Documents Access and Management System in August 2016 and contains over 3.69 million documents associated the proposed high-level waste facility at Yucca Mountain.

Membership on the Panel will continue to be drawn from those whose interests could be affected by the use of the LSN document collection, including the Department of Energy, the NRC, the State of Nevada, the National Congress of American Indians, affected units of local governments in Nevada, the Nevada Nuclear Waste Task Force, and nuclear industry groups. Federal agencies with expertise and experience in electronic information management systems may also participate on the Panel.

The NRC has determined that renewal of the charter for the LSNARP until January 3, 2021, is in the public interest in connection with duties imposed on the Commission by law. This action is being taken in accordance with the Federal Advisory Committee Act after consultation with the Committee Management Secretariat, General Services Administration.

FOR FURTHER INFORMATION CONTACT: Russell E. Chazell, Office of the Secretary, U.S. Nuclear Regulatory Commission, Washington, DC 20555: Telephone 301-415-7469.

Dated: January 3, 2019.
Russell E. Chazell,
Federal Advisory Committee Management Officer.

[FR Doc. 2019-00599 Filed 1-31-19; 8:45 am]

BILLING CODE 7590-01-P